DEPARTMENT OF HEALTH AND HUMAN SERVICES

Advisory Council on Alzheimer's Research, Care, and Services; Meeting

AGENCY: Assistant Secretary for Planning and Evaluation, HHS.

ACTION: Notice of meeting.

SUMMARY: This notice announces the public meeting of the Advisory Council on Alzheimer's Research, Care, and Services (Advisory Council). The Advisory Council provides advice on how to prevent or reduce the burden of Alzheimer's disease and related dementias (ADRD) on people with the disease and their caregivers. During the meeting on January 30 and 31, 2023, the Advisory Council will hear presentations on issues related to clinical practice and plans for advanced care planning. The second day presentations will review the impact of new drug approvals and focus on risk reduction and social determinants of health. The National Institute of Neurological Disorders and Stroke (NINDS) will present research milestones from the 2022 ADRD summit and other Federal agencies will also provide updates.

DATES: The meeting will be held virtually on January 30th from 12:30 p.m. to 4:30 p.m. EST and January 31st from 12:30 p.m. to 4:30 p.m. EST.

ADDRESSES: The meeting will be virtual. It will stream live at www.hhs.gov/live.

Comments: Time is allocated on the agenda to hear public comments from 4:00 p.m. to 4:30 p.m. on Tuesday January 31st. The time for oral comments will be limited to two (2) minutes per individual. In order to provide a public comment, please register by emailing your name to napa@hhs.gov by Thursday, January 26. Registered commenters will receive both a dial-in number and a link to join the meeting virtually; individuals will have the choice to either join virtually via the link, or to call in only by using the dial-in number. Note: There may be a 30-45 second delay in the livestream video presentation of the conference. For this reason, if you have pre-registered to submit a public comment, it is important to connect to the meeting by 3:45 p.m. to ensure that you do not miss your name and allotted time when called. If you miss your name and allotted time to speak, you may not be able to make your public comment. All participant audio lines will be muted for the duration of the meeting and only unmuted by the Host at the time of the participant's public comment. Should you have questions during the session email napa@hhs.gov and someone will respond to your message as quickly as possible.

In order to ensure accuracy, please submit a written copy of oral comments for the record by emailing napa@hhs.gov by Wednesday, February 1, 2023. These comments will be shared on the website and reflected in the meeting minutes.

In lieu of oral comments, formal written comments may be submitted for the record by Wednesday, February 1, 2023 to Helen Lamont, Ph.D., OASPE, 200 Independence Avenue SW, Room 424E, Washington, DC 20201. Comments may also be sent to napa@hhs.gov. Those submitting written comments should identify themselves and any relevant organizational affiliations.

FOR FURTHER INFORMATION CONTACT: Helen Lamont, 202-260-6075, helen.lamont@hhs.gov. Note: The meeting will be available to the public live at www.hhs.gov/live.

SUPPLEMENTARY INFORMATION: Notice of these meetings is given under the Federal Advisory Committee Act (5 U.S.C. App. 2, section 10(a)(1) and (a)(2)). Topics of the Meeting: clinical care, dementia risk reduction, social determinants of health.

Procedure and Agenda: The meeting will be webcast at www.hhs.gov/live and video recordings will be added to the National Alzheimer's Project Act website when available, after the meeting.

Authority: 42 U.S.C. 11225; Section 2(e)(3) of the National Alzheimer's Project Act. The panel is governed by provisions of Public Law 92-463, as amended (5 U.S.C. Appendix 2), which sets forth standards for the formation and use of advisory committees.

Dated: December 23, 2022.
Benjamin Sommers,
Senior Official Performing the Duties of the Assistant Secretary for Planning and Evaluation, Deputy Assistant Secretary for Health Policy.

[FR Doc. 2023-00290 Filed 1-9-23; 8:45 am]

BILLING CODE 4150-05-P